DEPARTMENT OF VETERANS AFFAIRS

[OMB Control No. 2900-0208]

Agency Information Collection Activity Under OMB Review: VA Form 6298, Architect-Engineer Fee Proposal and VA Form 10101, Contractor Production Report

AGENCY: Office of Acquisition and Logistics, Department of Veterans Affairs.

ACTION: Notice.

SUMMARY: In compliance with the Paperwork Reduction Act (PRA) of 1995, this notice announces that the Office of Acquisition and Logistics (OAL), Department of Veterans Affairs, will submit the collection of information abstracted below to the Office of Management and Budget (OMB) for review and comment. The PRA submission describes the nature of the information collection and its expected cost and burden and includes the actual data collection instrument.

DATES: Written comments and recommendations for the proposed information collection should be sent within 30 days of publication of this notice to www.reginfo.gov/public/do/PRAMain. Find this particular information collection by selecting “Currently under Review—Open for Public Comments” or by using the search function. Refer to “OMB Control No. 2900-0208.”

FOR FURTHER INFORMATION CONTACT: Maribel Aponte, Office of Enterprise and Integration, Data Governance Analytics (008), 1717 H Street NW, Washington, DC 20006, (202) 266-4688 or email maribel.aponte@va.gov. Please refer to “OMB Control No. 2900-0208” in any correspondence.

SUPPLEMENTARY INFORMATION: Authority: Public Law 104-13; 44 U.S.C. 3501-3521.

Title: VA Form 6298, Architect-Engineer Fee Proposal and VA Form 10101, Contractor Production Report.

OMB Control Number: 2900-0208.

Type of Review: Extension of a currently approved collection.

Abstract: The Department of Veterans Affairs, Office of Construction and Facilities Management (CFM), manages a multi-million-dollar construction program that involves the design and construction of medical centers, and other VA facilities including building improvements and conversions. The actual construction work is contracted out to private construction firms. The use of VA Form 6298, Architect-Engineer Fee Proposal is mandatory for obtaining the proposal and supporting cost or pricing data from the contractor and subcontractor in the negotiation of all architect-engineer contracts for design services when the contract price is estimated to be $50,000 or more. It is also used in obtaining proposals and supporting cost or pricing data for architect engineer services for research study, seismic study, master planning study, construction management and other related services contracts. VA Form 10101, Contractor Production Report, is used to record the data necessary to ensure the contractor provides sufficient labor and materials to accomplish the contract work. Contractors are required to guarantee the performance of the work necessary to complete the project. VAAR 852.236-79 details what needs to be addressed by the contractor on the Contractor Production Report. Failure to receive information from the Contractor Production Report could result in a claim for non-performance and construction delays against the Government if the Government were unable to collect this information to administer the contract.

An agency may not conduct or sponsor, and a person is not required to respond to a collection of information unless it displays a currently valid OMB control number. The Federal Register Notice with a 60-day comment period soliciting comments on this collection of information was published at 86 FR 60109 on October 29, 2021, page 60109.

Affected Public: Business or other for profit.

Estimated Annual Burden: 5,341 hours.

Estimated Average Burden per Respondent: 264 minutes.

Frequency of Response: More than quarterly.

Estimated Number of Respondents: 335.

By direction of the Secretary.
Maribel Aponte,
VA PRA Clearance Officer, Office of Enterprise and Integration, Data Governance Analytics, Department of Veterans Affairs.

[FR Doc. 2022-00296 Filed 1-10-22; 8:45 am]

BILLING CODE 8320-01-P